DEPARTMENT OF ENERGY

Federal Energy Regulatory Commission

Combined Notice of Filings #1

Take notice that the Commission received the following electric rate filings:

Docket Numbers: ER11-4266-003.

Applicants: Richland-Stryker Generation LLC.

Description: Supplement to Notice of Non-Material Change in Status of Richland-Stryker Generation LLC.

Filed Date: 2/14/12.

Accession Number: 20120214-5058.

Comments Due: 5 p.m. ET 3/6/12.

Docket Numbers: ER12-397-000.

Applicants: Midwest Independent Transmission System Operator, Inc.

Description: Response to Deficiency Letter of Midwest Independent Transmission System Operator, Inc.

Filed Date: 2/13/12.

Accession Number: 20120213-5201.

Comments Due: 5 p.m. ET 3/5/12.

Docket Numbers: ER12-919-001.

Applicants: Rockland Wind Farm LLC.

Description: Rockland Wind Farm LLC submits tariff filing per 35.17(b): Supplemental Information Filing to be effective 3/28/2012.

Filed Date: 2/15/12.

Accession Number: 20120215-5151.

Comments Due: 5 p.m. ET 3/7/12.

Docket Numbers: ER12-1098-000.

Applicants: South Carolina Electric & Gas Company.

Description: Re-file of New Horizon Assignment of NITSA and NOA to be effective 8/30/2010.

Filed Date: 2/15/12.

Accession Number: 20120215-5080.

Comments Due: 5 p.m. ET 3/7/12.

Docket Numbers: ER12-1099-000.

Applicants: Midwest Independent Transmission System Operator, Inc., Wolverine Power Supply Cooperative, Inc.

Description: Wolverine-Consumers-Tremaine IA to be effective 2/16/2012.

Filed Date: 2/15/12.

Accession Number: 20120215-5136.

Comments Due: 5 p.m. ET 3/7/12.

Docket Numbers: ER12-1100-000.

Applicants: PJM Interconnection, L.L.C.

Description: PJM Interconnection, L.L.C. submits tariff filing per 35.13(a)(2)(iii): PJM SA No. 3198 and First Revised SA No. 2642; Queue T157/W4-037 to be effective 1/16/2012.

Filed Date: 2/15/12.

Accession Number: 20120215-5146.

Comments Due: 5 p.m. ET 3/7/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 16, 2012.
Nathaniel J. Davis, Sr.,
Deputy Secretary.

[FR Doc. 2012-4303 Filed 2-23-12; 8:45 am]

BILLING CODE 6717-01-P